DEPARTMENT OF AGRICULTURE

Food Safety and Inspection Service

9 CFR Parts 301, 303, 317, 318, 319, 320, 325, 331, 381, 417, and 430

[Docket No. 04-001N]

Technical Meeting on Risk Assessments of Salmonella and of Clostridium perfringens in Ready-to-Eat Meat and Poultry Products; Notice of Availability and Public Meeting

AGENCY: Food Safety and Inspection Service, USDA.

ACTION: Notice of availability, announcement of public meeting, and request for comments.

SUMMARY: The Food Safety and Inspection Service (FSIS) is announcing the availability of, and requesting public comment on, two draft risk assessments. The first is a quantitative risk assessment of Salmonella in ready-to-eat (RTE) meat and poultry products. The second is a quantitative risk assessment of Clostridium perfringens in RTE and heat-treated, but not RTE, products. The Agency prepared the draft risk assessments to provide scientific information in support of lethality and stabilization performance standards that the Agency proposed for the processing of such products in a notice of proposed rulemaking published February 27, 2001 (66 FR 12590). FSIS is holding a public meeting to present and discuss these draft risk assessments.

DATES: The public meeting is scheduled for March 24, 2005, from 9 a.m. to 4 p.m. Submit written comments on the draft risk assessments on or before May 9, 2005.

ADDRESSES: The public meeting will be held at the Holiday Inn on the Hill, 415 New Jersey Avenue NW., Washington, DC 20001; telephone (202) 638-1616, Fax (202) 347-1813. A tentative agenda will be available in the FSIS docket room (address below) and on the FSIS Web site at http://www.fsis.usda.gov/regulations_&_policies/2005_Notices_Index/index.asp.

The draft risk assessments will be available by March 18, 2005 in the FSIS docket room (address below) and on the FSIS Web site at http://www.fsis.usda.gov/Science/Risk_Assessments/index.asp.

All comments and the official transcript of the meeting will be available for viewing in the FSIS docket room when they become available.

FSIS invites interested persons to submit comments:

On the two risk assessments, by any of the following methods:

• Mail, including floppy disks or CD-ROM's: Send to Dr. Neal Golden, Risk Analyst, Risk Assessment Division, Office of Public Health Science, 1400 Independence Avenue, SW., Room 333 Aerospace Center, Washington, DC 20250-3700.

• Hand-delivered or courier-delivered items: Dr. Neal J. Golden, Risk Analyst, RAD, OPHS, USDA, 901 D Street, SW., Rm. 333 Aerospace Center, Washington, DC 20024.

• Electronic mail, to: Neal.golden@fsis.usda.gov.

On other matters relating to the proposed performance standards for RTE products, by either of the following methods:

• Mail, including floppy disks or CD-ROM's, and hand-or courier-delivered items: Send to Docket Clerk, U.S. Department of Agriculture, Food Safety and Inspection Service, 300 12th Street, SW., Room 102 Cotton Annex, Washington, DC 20250.

• Electronic mail, to: fsis.regulationscomments@fsis.usda.gov.

All submissions received must include the Agency name and docket number 04-001N.

All comments submitted in response to this notice, as well as research and background information used by FSIS in developing the documents referred to, will be available for public inspection in the FSIS Docket Room at the address listed above between 8:30 a.m. and 4:30 p.m., Monday through Friday. The comments also will be posted on the Agency's Web site at http://www.fsis.usda.gov/regulations_&_policies/2005_Notices_Index/index.asp.

FOR FURTHER INFORMATION CONTACT: Pre-registration for this meeting is encouraged. Please contact Diane Jones at (202) 720-9692 or Diane.Jones@fsis.usda.gov. Persons requiring a sign language interpreter should notify Ms. Jones as soon as possible.

SUPPLEMENTARY INFORMATION:

Background

On February 27, 2001 (66 FR 12589), FSIS published the notice of proposed rulemaking (NPRM) “Performance Standards for the Production of Processed Meat and Poultry Products.” These proposed performance standards would require, among other things, that the processing methods, such as heat treatments, fermentation, drying, or salt-curing, used by each establishment that produces RTE meat or poultry products achieve specific levels of pathogen lethality, in terms of a very low probability that Salmonella organisms will survive or specific log10 reductions of Salmonella in the products. FSIS also proposed that each establishment that produces RTE or partially cooked meat or poultry products use product stabilization processes, such as cooling following a heat treatment, that limit multiplication of C. perfringens to no more than 1 log10 and ensure no multiplication of C. botulinum. Partly in response to comments received on the NPRM, FSIS decided to conduct scientific risk assessments of the proposed lethality and stabilization standards.

FSIS has recently completed a quantitative risk assessment of Salmonella in RTE meat and poultry products. The risk assessment provides important data that the Agency has been using in deciding whether to adopt a lethality performance standard for the processing of RTE products, and, if so, what the standard should be.

The Agency has also completed “A Risk Assessment for Clostridium perfringens in Ready-to-Eat and Partially Cooked Foods” to estimate the risk of diarrheal illness from C. perfringens growth during stabilization of the products. The relative growth of C. botulinum during stabilization was also evaluated. FSIS is using the information from this risk assessment to develop a stabilization performance standard for the processing of such products.

FSIS is making these risk assessments available to the public and requests comment on them. The Agency is also making available in the docket room reference materials used in support of the risk assessments and additional data relating to the development of the proposed performance standards, as requested in comments on the NPRM.

Additional Public Notification

Public awareness of all segments of rulemaking and policy development is important. Consequently, in an effort to ensure that the public and, in particular, minorities, women, and persons with disabilities are aware of this notice, FSIS will announce it on-line through the FSIS Web page located at http://www.fsis.usda.gov/regulations/2005_Notices_Index/.

FSIS also will make copies of this Federal Register publication available through the FSIS Constituent Update, which is used to provide information regarding FSIS policies, procedures, regulations, Federal Register notices, FSIS public meetings, and recalls, as well as other types of information that could affect or would be of interest to our constituents and stakeholders. The update is communicated via Listserv, a free electronic mail subscription service for industry, trade, and farm groups, consumer interest groups, allied health professionals, scientific professionals, and other individuals who have requested to be included. The update is available on the FSIS Web page. Through Listserv and the Web page, FSIS is able to provide information to a much broader and more diverse audience.

In addition, FSIS offers an electronic mail subscription service which provides an automatic and customized notification when popular pages are updated, including Federal Register publications and related documents. This service is available at http://www.fsis.usda.gov/news_and_events/email_subscription/ and allows FSIS customers to sign up for subscription options across eight categories. Options range from recalls to export information to regulations, directives, and notices. Customers can add or delete subscriptions themselves and have the option to protect their accounts with passwords.

Done at Washington, DC, on March 22, 2005.
Barbara J. Masters,
Acting Administrator.

[FR Doc. 05-5951 Filed 3-22-05; 2:28 pm]

BILLING CODE 3410-DM-P